DEPARTMENT OF COMMERCE

International Trade Administration

Notice of Reduction of Canadian Most Favored Nation Rates of Duty for Certain Worsted Wool Fabrics

AGENCY: International Trade Administration, Department of Commerce.

ACTION: The Department of Commerce is publishing a notice of reduction of Canadian most favored nation rates of duty for certain worsted wool fabrics.

FOR FURTHER INFORMATION CONTACT: Jay Dowling, Office of Textiles and Apparel, U.S. Department of Commerce, (202) 482-4058.

SUPPLEMENTARY INFORMATION:

BACKGROUND:

Title V of the Trade and Development Act of 2000 (the Act) creates two tariff rate quotas, providing for temporary reductions in the import duties on two categories of worsted wool fabrics suitable for use in making suits, suit-type jackets, or trousers. For worsted wool fabric with average fiber diameters greater than 18.5 microns (HTS heading 9902.51.11), the reduction in duty is limited to 2,500,000 square meters per year. For worsted wool fabric with average fiber diameters of 18.5 microns or less (HTS heading 9902.51.12), the reduction is limited to 1,500,000 square meters per year. Both of these limitations may be modified by the President, not to exceed 1,000,000 square meters per year for each tariff rate quota.

Title V of the Act authorizes the President to proclaim a reduction in the rate of duty applicable to imports of worsted wool fabrics classified under subheading 9902.51.12 of the HTS that is necessary to equalize such rate of duty with the most favored nation rate of duty applicable to imports of worsted wool fabrics of the kind described in such subheading imported into Canada.

Presidential Proclamation 7383 of December 1, 2000, authorizes the Secretary of Commerce to monitor the most favored nation rate of duty applicable to imports into Canada of worsted wool fabric of the kind classified under heading 9902.51.12 of the HTS and to notify the President of any reduction, effective on or after May 18, 2000, in the Canadian most favored nation rate of duty on such imports. The Secretary is further directed to cause to be published in the Federal Register a notice describing any such reduction.

The Secretary of Commerce has notified the President of these reductions.

The Department of Commerce hereby provides notice that during 2001, Canada established four new tariff provisions for certain worsted wool fabrics. Canada established a most-favored-nation rate of duty for each of these four new tariff provisions of “Free”. The goods described by these tariff provisions would otherwise be subject to a duty of 16 percent ad valorem, but not to exceed C$4.56/kg. These tariff provisions include worsted wool fabrics of the kind classified under subheading 9902.51.12 of the Harmonized Tariff Schedule of the United States (HTS).

| The following two Canadian tariff provisions were effective as of January 23, 2001:
5112 | Woven fabrics of combed wool or of combed fine animal hair, containing 85% or more by weight of wool or of fine animal hair:
5112.11.20.00 | Fabrics of a weight not exceeding 200 g/m2, solely of combed wool with average fibre diameters of 17.5 microns or less and of combed fine animal hair, measuring 100 decitex or less per single yarn, certified by the exporter to contain 7% or more by weight of fine animal hair, of a weight of 140 g/m2 or more, for use in the manufacture of men’s suits, suit-type jackets, blazers, vests (waistcoats) and trousers.
5112.19.20.00 | Fabrics of a weight exceeding 200 g/m2, solely of combed wool with average fibre diameters of 17.5 microns or less and of combed fine animal hair, measuring 100 decitex or less per single yarn, certified by the exporter to contain 7% or more by weight of fine animal hair, of a weight not exceeding 300 g/m2, for use in the manufacture of men’s suits, suit-type jackets, vests (waistcoats) and trousers.

| The following two Canadian tariff provisions were effective as of November 22, 2001:
5112 | Woven fabrics of combed wool or of combed fine animal hair, containing 85% or more by weight of wool or of fine animal hair:
5112.11.40.00 | Fabrics of a weight not exceeding 200 g/m2, solely of combed wool or of combed wool mixed solely with cotton, silk or man-made fibres, containing 95% or more by weight of worsted wool with average fibre diameters of 18.5 microns or less, for use in the manufacture of men’s suits, jackets, blazers, vests (waistcoats) and trousers.
5112.19.40.00 | Fabrics of a weight exceeding 200 g/m2, solely of combed wool or of combed wool mixed solely with cotton, silk or man-made fibres, containing 95% or more by weight of worsted wool with average fibre diameters of 18.5 microns or less, of a weight not exceeding 220 g/m2, for use in the manufacture of men’s suits, jackets, blazers, vests (waistcoats) and trousers.

Date: April 5, 2002.
Donald L. Evans,
Secretary of Commerce.

[FR Doc.02-8794 Filed 4-16-02; 8:45 am]

BILLING CODE 3510-DR-S